DEPARTMENT OF HEALTH AND HUMAN SERVICES

National Institutes of Health

Center for Scientific Review; Amended Notice of Meeting

Notice is hereby given of a change in the meeting of the Integrative Physiology of Obesity and Diabetes Study Section, May 29, 2008, 8 a.m., to May 30, 2008, 3 p.m., Hyatt Regency Bethesda, One Bethesda Metro Center, 7400 Wisconsin Avenue, Bethesda, MD 20814, which was published in the Federal Register on April 16, 2008, 73 FR 20696-20698.

The meeting will be held one day only, May 29, 2008, from 8 a.m. to 6 p.m. The meeting location remains the same. The meeting is closed to the public.

Dated: April 21, 2008.
Jennifer Spaeth,
Director, Office of Federal Advisory Committee Policy.

[FR Doc. E8-9160 Filed 4-28-08; 8:45 am]

BILLING CODE 4140-01-M